DEPARTMENT OF TRANSPORTATION

Federal Aviation Administration

Thirty Second RTCA SC-213 Enhanced Flight Vision Systems/Synthetic Vision Systems (EFVS/SVS)

AGENCY: Federal Aviation Administration (FAA), U.S. Department of Transportation (DOT).

ACTION: Notice.

SUMMARY: The FAA is issuing this notice to advise the public of a meeting of Thirty Second RTCA SC-213 Enhanced Flight Vision Systems/Synthetic Vision Systems (EFVS/SVS).

DATES: The meeting will be held October 24, 2016 from 09:00 a.m.-05:00 p.m. and October 25-27 from 8:30 a.m.-05:00 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Thirty Second RTCA SC-213 Enhanced Flight Vision Systems/Synthetic Vision Systems (EFVS/SVS). The agenda will include the following:

Monday, October 24

Working Group meetings

Tuesday, October 25

Plenary discussion (sign-in at 08:00 a.m.)

1. Introductions and administrative items

2. Review and approve minutes from last full plenary meeting

3. Review of terms of reference and update work product dates

4. WG1, WG2, WG3 and WG4 status updates

5. Industry updates

6. Working group discussion

Wednesday, October 26

Plenary discussion

1. Working group discussions

Thursday, October 27

Plenary discussion

1. Working group discussion

2. Administrative items (new meeting location/dates, action items etc.)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 19, 2016.
Mohannad Dawoud,
Management & Program Analyst, Partnership Contracts Branch, ANG-A17 NextGen, Procurement Services Division, Federal Aviation Administration.

[FR Doc. 2016-22825 Filed 9-21-16; 8:45 am]

BILLING CODE 4910-13-P